CORPORATION FOR NATIONAL AND COMMUNITY SERVICE

Information Collection; Submission for OMB Review, Comment Request

AGENCY: Corporation for National and Community Service.

ACTION: Notice.

SUMMARY: The Corporation for National and Community Service (hereinafter the “Corporation”) has submitted a public information collection request (ICR) entitled the Evaluation of Youth Corps: 18-Month Follow-up Survey to the Office of Management and Budget (OMB) for review and approval in accordance with the Paperwork Reduction Act of 1995, Public Law 104-13 (44 U.S.C. Chapter 35). Copies of this ICR, with applicable supporting documentation, may be obtained by calling the Corporation for National and Community Service, Ms. Lillian Dote at (202) 606-6984. Individuals who use a telecommunications device for the deaf (TTY-TDD) may call (202) 606-3472 between 8:30 a.m. and 5 p.m. eastern time, Monday through Friday.

ADDRESSES: Comments may be submitted, identified by the title of the information collection activity, to the Office of Information and Regulatory Affairs, OMB Desk Officer for the Corporation for National and Community Service, by the following method, within 30 days from the date of publication in this Federal Register:

(1) By fax to: (202) 395-6974, Attention: Ms. Katherine Astrich, OMB Desk Officer for the Corporation for National and Community Service.

(2) Electronically by e-mail to: Katherine_T._Astrich@omb.eop.gov.

SUPPLEMENTARY INFORMATION: The OMB is particularly interested in comments which:

• Evaluate whether the proposed collection of information is necessary for the proper performance of the functions of the Corporation, including whether the information will have practical utility;

• Evaluate the accuracy of the agency's estimate of the burden of the proposed collection of information, including the validity of the methodology and assumptions used;

• Propose ways to enhance the quality, utility, and clarity of the information to be collected; and

• Propose ways to minimize the burden of the collection of information on those who are to respond, including through the use of appropriate automated, electronic, mechanical, or other technological collection techniques or other forms of information technology, e.g., permitting electronic submissions of responses.

Comments

A 60-day public comment Notice was published in the Federal Register on May 17, 2007. This comment period ended July 16, 2007. No public comments were received from this notice.

Description: The Corporation is seeking approval of the Evaluation of Youth Corps: 18-Month Follow-up Survey, which will be used to learn about the effects of national service on youth corps participants. The information collection will be completed by individuals 18 months after they were randomly assigned to participate in either a youth corps program or a control group. These individuals completed a baseline survey at the time of application to a youth corps program.

Type of Review: New.

Agency: Corporation for National and Community Service.

Title: Evaluation of Youth Corps: 18-Month Follow-up Survey.

OMB Number: None.

Agency Number: None.

Affected Public: Individuals who have agreed to participate in the evaluation and who have completed a baseline survey.

Total Respondents: 2,267.

Frequency: One time.

Average Time per Response: 45-60 minutes.

Estimated Total Burden Hours: 2,068 hours.

Total Burden Cost (capital/startup): None.

Total Burden Cost (operating/maintenance): None.

Dated: August 13, 2007.
Robert Grimm,
Director, Office of Research and Policy Development.

[FR Doc. E7-16691 Filed 8-22-07; 8:45 am]

BILLING CODE 6050-$$-P